DEPARTMENT OF THE INTERIOR

Bureau of Land Management

[18X LLAK980600.L1820000.XX0000.LXSIARAC0000]

Notice of Public Meeting, BLM Alaska Resource Advisory Council

AGENCY: Bureau of Land Management, Interior.

ACTION: Notice of public meeting.

SUMMARY: In accordance with the Federal Land Policy and Management Act of 1976, and the Federal Advisory Committee Act of 1972, the U.S. Department of the Interior, Bureau of Land Management's (BLM) Alaska Resource Advisory Council (RAC) will meet as indicated below.

DATES: The Alaska RAC will hold a public meeting on Wednesday, May 16, 2018, from 9 a.m. until 5 p.m., and Thursday, May 17, 2018, from 9 a.m. until 4 p.m. A public comment period will be held on Wednesday from noon to 1 p.m. and on Thursday, from 3 p.m. until 3:30 p.m.

ADDRESSES: The meeting will take place in the Minto Room at the Westmark Fairbanks Hotel & Conference Center, 813 Noble Street, Fairbanks, Alaska. The agenda will be posted online by May 1, 2018, at www.blm.gov/site-page/get-involved-resource-advisory-council/near-you/alaska/rac.

FOR FURTHER INFORMATION CONTACT: Lesli Ellis-Wouters, Communications Director, BLM Alaska State Office, 222 W. 7th Avenue #13, Anchorage, AK 99513; lellis@blm.gov; 907-271-4418. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member BLM Alaska RAC was chartered to provide advice to the BLM and the Secretary of the Interior on a variety of planning and management issues associated with public land management in Alaska. All advisory council meetings are open to the public.

The agenda will include updates on the National Petroleum Reserve in Alaska (NPR-A), the Greater Mooses Tooth Unit 2 project and proposed Willow Development. There will be updates on current BLM Alaska planning efforts, such as the Road to Ambler Mining District Environmental Impact Statement and the Bering Sea-Western Interior and Central Yukon Resource Management Plans. Four BLM Alaska RAC subcommittees including Placer Mining, Recreation, Alaska Native Claims Settlement Act, and Areas of Critical Environmental Concern will give their reports.

A focus on cooperative management will explore partnership opportunities for the BLM with the State of Alaska, other Federal agencies, local and Tribal governments, and nongovernmental organizations. A session on Alaska subsistence will include Federal and State responsibilities for the Federal Subsistence Management Program. Ahtna, Inc., one of the 13 Alaska Native Regional Corporations established under the Alaska Native Claims Settlement Act, will give a presentation about cooperative subsistence management and effective collaboration between the native corporations and Federal and State agencies.

The RAC will hear Intertribal Coalition presentations from the Tanana Chiefs Conference, Kuskokwim Fish Intertribal Commission, and Ahtna Intertribal Resource Commission. Presentations on BLM Alaska's conservation science partnerships will explore Landscape Conservation Cooperatives (LCCs), including the Northwest Boreal LCC, Western Alaska LCC, Arctic LCC, and Aleutian Bering Sea Islands LCC.

During the public comment period, depending upon the number of people wishing to comment, time for individual oral comments may be limited. Please be prepared to submit written comments. If you have information to distribute to the RAC, please do so prior to the start of the meeting.

You can submit written comments by email to BLM_AK_Communications@blm.gov. Before including your address, phone number, email address, or other personal identifying information in your comment, you should be aware that your entire comment—including your personal identifying information—may be made publicly available at any time. While you can ask us in your comment to withhold your personal identifying information from public review, we cannot guarantee that we will be able to do so.

Authority: 43 CFR 1784.4-2.

Karen E. Mouritsen,
Acting State Director, Alaska.

[FR Doc. 2018-08300 Filed 4-19-18; 8:45 am]

BILLING CODE 4310-JA-P